DEPARTMENT OF AGRICULTURE

Food and Nutrition Service

Agency Information Collection Activities: Proposed Collection; Comment Request National School Lunch Program

AGENCY: Food and Nutrition Service, USDA.

ACTION: Notice.

SUMMARY: In accordance with the Paperwork Reduction Act of 1995, this notice invites the general public and other public agencies to comment on this proposed information collection. This collection is an extension to a currently approved collection for the National School Lunch Program.

DATES: Written comments must be submitted by December 29, 2008.

ADDRESSES: Comments may be sent to: Lynn Rodgers-Kuperman, Chief, Program Analysis and Monitoring Branch, Child Nutrition Division, Food and Nutrition Service, U.S. Department of Agriculture, 3101 Park Center Drive, Alexandria, VA 22302. Comments will also be accepted through the Federal eRulemaking Portal. Go to http://www.regulation.gov, and follow the online instructions for submitting comments electronically.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

All written comments will be open for public inspection at the office of the Food and Nutrition Service during regular business hours (8:30 a.m. to 5 p.m., Monday through Friday) at 3101 Park Center Drive, Alexandria, Virginia 22302, Room 640.

All responses to this notice will be summarized and included in the request for OMB approval. All comments will be a matter of public record.

FOR FURTHER INFORMATION CONTACT: Requests for additional information should be directed to Ms. Lynn Rodgers-Kuperman at (703) 305-2590.

SUPPLEMENTARY INFORMATION:

Title: 7 CFR Part 210, National School Lunch Program.

OMB Number: 0584-0006.

Expiration Date: 03/31/2009.

Type of Request: Extension of currently approved information collection.

Abstract: The Richard B. Russell National School Lunch Act authorizes the National School Lunch Program (NSLP). The Department of Agriculture provides States with general and special cash assistance and donations of foods to assist schools in serving nutritious lunches to children each school day. Participating schools must serve lunches that are nutritionally adequate and to the extent practicable, ensure that participating children gain a full understanding of the relationship between proper eating and good health. The Department of Agriculture prescribes the nutritional and other programmatic requirements for those school lunches in accordance with Section 9 of the NSLP, 42 U.S.C. 1758.

The reporting and recordkeeping burdens associated with administration of the NSLP by States and participating schools proposed for extension under this notice reflect both those in place since this collection was extended in 2006, and an increase made in support of implementation of the Department of Agriculture's rule, Procurement Requirements for the National School Lunch, School Breakfast and Special Milk Programs. The public received an opportunity to comment on this increase when the proposed rule was published (69 FR 78340 et seq., December 30, 2004); the final rule was published on October 31, 2007 (72 FR 61479, et seq.), and the associated reporting and recordkeeping burden was approved by the Office of Management and Budget under OMB Control Number 0584-0544. The Department of Agriculture subsequently merged this increased burden with the overall burden associated with the NSLP under OMB Control Number 0584-0006, effective February 15, 2008. Therefore, while no new (unapproved) burdens are proposed under this extension, the notice invites the general public and other public agencies to comment on the consolidated NSLP information collection burden for the first time since the new procurement rule took effect.

Burden: This information is required to administer and operate this program in accordance with the NSLA. The Program is administered at the State and school food authority (SFA) levels and the operations include the submission and approval of applications, execution of agreements submission of claims, payment of claims, providing monitoring and technical assistance. All of the reporting and recordkeeping requirements associated with the NSLP are currently approved by the Office of Management and Budget and in force.

Affected Public: 57 State Agencies, 20,710 School Food Authorities, 100,398 Schools.

Estimated Number of Respondents: 121,165.

Estimated Number of Responses per Respondent: 19.94.

Estimated Total Annual Responses: 2,416,184.

Estimated Time per Response: 0.542.

Estimated Total Reporting Annual Burden Hours: 1,309,918.

Number of Recordkeepers: 121,335.

Estimated Number of Responses per Respondent: 242.

Estimated Total Annual Responses: 29,385,446.

Estimated Time per Response: .28.

Estimated Total Annual Recordkeeping Burden Hours: 8,173,313.

Total Request Annual Reporting and Recordkeeping Burden Hours: 9,483,232.

Dated: October 23, 2008.
Eric Steiner,
Acting Administrator, Food and Nutrition Service.

[FR Doc. E8-25770 Filed 10-28-08; 8:45 am]

BILLING CODE 3410-30-P